DEPARTMENT OF TRANSPORTATION

Federal Aviation Administration

Policy Statement on Standardization of Application Regarding Hazardous Misleading Heading Information for Attitude-Heading Reference Systems (AHRS); PS-ACE100-2002-003

AGENCY: Federal Aviation Administration, DOT.

ACTION: Notice of issuance of policy.

SUMMARY: This document announces the issuance of PS-ACE100-2002-003. The purpose of this policy statement is to clarify Federal Aviation Administration certification policy on the application of AC 23.1309-1C, Equipment, Systems, and Installations in Part 23 Airplanes, regarding hazardous misleading heading information.

DATES: PS-ACE100-2002-003 was issued by the Manager, Small Airplane Directorate on May 30, 2003.

ADDRESSES: A paper copy of PS-ACE100-2002-003 may be obtained by contacting Mr. Erv Dvorak, Standards Office, Small Airplane Directorate, Aircraft Certification Service, Kansas City, Missouri 64106, telephone (816) 329-4123, fax (816) 329-4090. The policy will also be available on the Internet at http://www.airweb.faa.gov/policy.

Issued in Kansas City, Missouri on July 15, 2003.
Michael Gallagher,
Manager, Small Airplane Directorate, Aircraft Certification Service.

[FR Doc. 03-19528 Filed 7-30-03; 8:45 am]

BILLING CODE 4910-13-P